ENVIRONMENTAL PROTECTION AGENCY

[EPA-R01-OW-2012-0201, FRL-9695-8]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the state waters of Vineyard and Nantucket Sounds and the Islands collectively termed Southern Cape Cod.

ADDRESSES: Docket: All documents in the docket are listed in the www.regulations.gov index. Although listed in the index, some information is not publicly available, e.g., CBI or other information whose disclosure is restricted by statute. Certain other material, such as copyrighted material, will be publicly available only in hard copy. Publicly available docket materials are available electronically in www.regulations.gov.

FOR FURTHER INFORMATION CONTACT: Ann Rodney, U.S. Environmental Protection Agency—New England Region, Office of Ecosystem Protection, Oceans and Coastal Protection Unit, Five Post Office Square, Suite 100, OEP06-1, Boston, MA 02109-3912. Telephone: (617) 918-1538. Fax number: (617) 918-0538. Email address: rodney.ann@epa.gov.

SUPPLEMENTARY INFORMATION: On April 26, 2012, EPA published a notice that the Commonwealth of Massachusetts had petitioned the Regional Administrator, Environmental Protection Agency, to determine that adequate facilities for the safe and sanitary removal and treatment of sewage from all vessels are reasonably available for the waters of Southern Cape Cod. Eight comments were received on this petition and all endorsed this designation. The response to comments can be obtained using the above contact information.

The petition was filed pursuant to Section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of Southern Cape Cod. The NDA boundaries are as follows:

Waterbody/general area | Latitude | Longitude
West of the Elizabeth Islands | 41°24′35.11″ N | 70°56′54.62″ W
West of the Elizabeth Islands | 41°22′30.32″ N | 70°59′51.57″ W
West of the Elizabeth Islands | 41°24′17.81″ N | 71°02′06.69″ W

The upper-eastern area of the NDA is bound by the Outer Cape NDA:

Waterbody/general area | Latitude | Longitude
South of Monomoy Island | 41°32′29.79″ N | 70°00′36.28″ W
South of Monomoy Island | 41°29′14.59″ N | 70°00′10.93″ W

The small triangle of Commonwealth waters at the mouth of Buzzards Bay will be bound by the following coordinates along the Federal/State boundary line:

Waterbody/general area | Latitude | Longitude
Mouth of Buzzards Bay | 41°24′50.40″ N | 71°02′48.61″ W
Mouth of Buzzards Bay | 41°25′25.66″ N | 71°03′31.78″ W
Mouth of Buzzards Bay | 41°25′18.57″ N | 71°04′18.47″ W

The two temporarily undesignated areas will be bound by the following coordinates:

Area 1:

Waterbody/general area | Latitude | Longitude
Vineyard Sound | 41°30′33.61″ N | 70°40′06.67″ W
Vineyard Sound | 41°30′49.20″ N | 70°39′19.65″ W
Vineyard Sound | 41°30′59.29″ N | 70°39′02.76″ W
Vineyard Sound | 41°30′03.08″ N | 70°33′54.78″ W
Vineyard Sound | 41°28′22.57″ N | 70°33′27.72″ W
Vineyard Sound | 41°28′44.74″ N | 70°35′18.74″ W
Vineyard Sound | 41°29′08.60″ N | 70°35′32.38″ W

Area 2:

Waterbody/general area | Latitude | Longitude
Nantucket Sound | 41°34′27.90″ N | 70°16′48.99″ W
Nantucket Sound | 41°34′27.90″ N | 70°15′00.99″ W
Nantucket Sound | 41°33′20.36″ N | 70°14′39.33″ W
Nantucket Sound | 41°31′41.73″ N | 70°12′27.06″ W
Nantucket Sound | 41°31′07.88″ N | 70°15′32.25″ W

The boundaries were chosen to maximize the area designated, give larger vessels a temporary window in which to comply with this proposed regulation, and generally represent all navigational waters. The Southern Cape Cod NDA will encompass the state waters of Vineyard and Nantucket Sounds and the Islands.

The information submitted to EPA by the Commonwealth of Massachusetts certifies that there are 29 pumpout facilities available to the boating public. The location, contact information, hours of operation, and water depth are provided at the end of this notice.

Based on the examination of the petition and its supporting documentation, and information from site visits conducted by EPA New England staff, EPA has determined that adequate facilities for the safe and sanitary removal and treatment of sewage from all vessels are reasonably available for the area covered under this determination.

This determination is made pursuant to Section 312(f)(3) of Public Law 92-500, as amended by Public laws 95-217 and 100-4.

Pumpout Facilities Within Proposed No Discharge Area
Name | Location | Contact information | Hours of operation | Depth (ft)
Menemsha Harbor | Chilmark | 508-645-2846, VHF 9,16 | 8 a.m.-4 p.m. | 4
Vineyard Haven Harbor/Tashmoo Pond | Tisbury | 508-696-4249, VHF 9 | 9 a.m.-4 p.m. | NA
Tisbury Wharf Co. | 144 Beach Road, P.O. Box 1317, Tisbury | 508-693-9300, VFH 9 | 9 a.m.-4 p.m. | 4
Oak Bluffs Harbor | Oak Bluffs | 508-693-4355, VHF 71 | 9 a.m.-4 p.m. | NA
Oak Bluffs Harbor Marina | Box 1327, Oak Bluffs | 508-693-4355, VHF 71 | 9 a.m.-4 p.m. | 6
Edgartown Marina | 1 Morse Street Edgartown | 508-627-4746, VHF 9, 74 | 8 a.m.-4 p.m. | 6
Edgartown Harbor | 1 Morse Street Edgartown | 508-627-4746, VHF 9, 74 | 8 a.m.-4 p.m. | NA
Falmouth Marine Inner Harbor | 278 Scranton Avenue, Falmouth | 508-548-4600, VHF 9, 16 | 9 a.m.-5 p.m. | 6
McDougall's Inner Harbor | 145 Falmouth Heights Road, Falmouth | 508-548-3146, VHF 9, 16 | 9 a.m.-5 p.m. | NA
Falmouth Town Dock | Falmouth | 508-457-2550, VHF 9, 16 | 9 a.m.-5 p.m. | 6
Green Pond Marina | 70 Green Harbor Road, East Falmouth | 508-457-9283, VHF 9, 16 | 9 a.m.-4 p.m. | 3
Bosun's Marine | 1209 East Falmouth Highway, Route 28, Falmouth | 508-548-2216, VHF 9, 16 | 9 a.m.-4 p.m. | 3
Waquoit Bay/Inner Harbor | Falmouth | 508-457-2550, VHF 9, 16 | 9 a.m.-5 p.m. | NA
Popponessett Bay | Mashpee | 508-539-1450, VHF 9, 16 | 9 a.m.-4 p.m. | NA
Oyster Harbor Marine | 122 Bridge Street, Osterville | 508-428-2017, VHF 9, 79 | 9 a.m.-4 p.m. | 6
Crosby Yacht Yard | 72 Crosby Circle Osterville, MA | 508-428-6900 VHF 9 | 9 a.m.-5 p.m. | 6
Centerville Harbor/3 Bays | Barnstable | 508-790-6273, VHF 9, 16 | 9 a.m.-4 p.m. | NA
Bismore Park (Hyannis) | 180 Ocean Street Hyannis | 508-790-6273, VHF, 9, 16 | 9 a.m.-5 p.m. | 6
Hyannis Marine | 1 Willow Street, Hyannis | 508-790-4000, VHF 9, 72 | 9 a.m.-5 p.m. | 6
Lewis Bay/Hyannis Harbor/Bass River | Yarmouth | 508-760-4800, VHF 66 | 9 a.m.-4 p.m. | NA
Bass River | Packet Landing, Water Street. Yarmouth | 508-760-4800, VHF 66 | 9 a.m.-4 p.m. | 3
Bass River Marina | 140 Main Street, West Dennis | 508-394-8341, VHF 71 | 8 a.m.-5 p.m. | 3
Saquatucket, Allen & Wychmere Harbors (Within existing NDA) | Harwich | 508-430-7532, VHF 68 | 9:30 a.m.-3:30 p.m. | NA
Saquatucket, fuel dock (Within existing NDA) | Harwich | 508-430-7532, VHF 68 | 9 a.m.-5 p.m. | 5
Stage Harbor (Within existing NDA) | Chatham | 508-945-5185, VHF 16, 66 | 7 a.m.-6 p.m. | 5.5
Madaket Marine (Within Existing NDA) | Nantucket | 508-228-1163, VHF 9, 16 | 9 a.m.-5 p.m. | 3
Nantucket Boat Basin (Within Existing NDA) | Nantucket | 508-325-1350, VHF 9, 11 | 9 a.m.-5 p.m. | 6
Nantucket Harbor (Within Existing NDA) | Nantucket | 508-228-7261, VHF 9, 14 | 9 a.m.-4 p.m. | 6
Nantucket Harbor (Within Existing NDA) | Nantucket | 508-228-7261, VHF 9, 14 | 9 a.m.-4 p.m. | NA

Dated: June 20, 2012.
H. Curtis Spalding,
Regional Administrator, New England Region.

[FR Doc. 2012-16057 Filed 6-28-12; 8:45 am]

BILLING CODE P